DEPARTMENT OF HEALTH AND HUMAN SERVICES

Centers for Disease Control and Prevention

[30Day-22-0607]

Agency Forms Undergoing Paperwork Reduction Act Review

In accordance with the Paperwork Reduction Act of 1995, the Centers for Disease Control and Prevention (CDC) has submitted the information collection request titled “The National Violent Death Reporting System (NVDRS)” to the Office of Management and Budget (OMB) for review and approval. CDC previously published a “Proposed Data Collection Submitted for Public Comment and Recommendations” notice on August 6, 2021, to obtain comments from the public and affected agencies. CDC received one non-substantive comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The National Violent Death Reporting System (NVDRS) (OMB Control No. 0920-0607, Exp. 7/31/2023)—Revision—National Center for Injury Prevention and Control (NCIPC), Centers for Disease Control and Prevention (CDC).

Background and Brief Description

Violence is a public health problem. The World Health Organization has estimated that 804,000 suicides and 475,000 homicides occurred in the year 2012 worldwide. Violence in the United States is a particular problem for the young; suicide and homicide were among the top four leading causes of death for Americans 10-34 and 1-34 years of age in 2015, respectively. In 2002 Congress approved the first appropriation to start the National Violent Death Reporting System (NVDRS). NVDRS is coordinated and funded at the federal level but is dependent on separate data collection efforts managed by the state health department (or their bona fide agent) in each state.

NVDRS, implemented by the Centers for Disease Control and Prevention (CDC), is a state-based surveillance system developed to monitor the occurrence of violent deaths (i.e., homicide, suicide, undetermined deaths, and unintentional firearm deaths) in the United States (U.S.) by collecting comprehensive, detailed, useful, and timely data from multiple sources (e.g., death certificates, coroner/medical examiner reports, law enforcement reports) into a useable, anonymous database. NVDRS is an ongoing surveillance system that captures annual violent death counts and circumstances that precipitate each violent incident. Violent deaths are defined as any death resulting from the intentional use of physical force or power (e.g., threats or intimidation) against oneself, another person, or against a group or community. CDC aggregates de-identified data from each state into one large national database that is analyzed and released in annual reports and publications. Descriptive analyses such as frequencies and rates are employed. A restricted access database is available for researchers to request access to NVDRS data for analysis and a web-based query system is open for public use that allows for electronic querying of data. NVDRS generates public health surveillance information at the national, state, and local levels that is more detailed, useful, and timely. Government, state and local communities have used NVDRS data to develop and evaluate prevention programs and strategies. NVDRS is also used to understand magnitude, trends, and characteristics of violent death and what factors protect people or put them at risk for experiencing violence.

CDC has received OMB approval for NVDRS since 2004. In this revision request CDC describes plans to (1) implement updates to the web-based system to improve performance, functionality, and accessibility, (2) add 13 new data elements to the web-based system, (3) add a School Associated Violent Death (SAVD) module as part of the NVDRS web-based system, (4) add new variables to NVDRS software, and (5) add a Public Safety Officer suicide module as part of the NVDRS web-based system.

In 2018, the NVDRS expanded by adding 10 new states and now includes all 50 states, the District of Columbia, and U.S. territory health departments (56 jurisdictions). Jurisdictions are funded to abstract standard data elements from three primary data sources: Death certificates, coroner/medical examiner records, and law enforcement records, into a web-based data entry system, supplied by CDC. The exception is for large states that have more than 2,000 violent deaths occurring per year; these states have the option to collect data in selected counties/targeted areas that represent at least 40% of all violent deaths occurring within their jurisdiction, and some may achieve statewide coverage. The goal of NVDRS is to collect state-wide data in all funded entities. No sampling methods will be employed.

OMB approval is requested for three years. There are no costs to respondents other than their time. The total estimated annualized burden hours are 41,827.

Estimated Annualized Burden Hours
Type of respondent | Form name | Number of respondents | Number of responses per respondent | Average burden per response (in hours)
Public Agencies | Web-based Data Entry | 56 | 1,350 | 30/60
| School Associated Violent Death Module | 45 | 1 | 30/60
| Public Safety Officer Suicide Reporting Module | 56 | 429 | 10/60

Jeffrey M. Zirger,
Lead, Information Collection Review Office, Office of Scientific Integrity, Office of Science, Centers for Disease Control and Prevention.

[FR Doc. 2022-00855 Filed 1-18-22; 8:45 am]

BILLING CODE 4163-18-P